DEPARTMENT OF JUSTICE

Antitrust Division

Notice Pursuant to The National Cooperative Research and Production Act of 1993—Information Warfare Research Project Consortium

Notice is hereby given that, on July 7, 2023, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Action Engineering LLC, Golden, CO; Analog Devices, Inc., Wilmington, MA; Apothym Technologies Group LLC, Peachtree Corners, GA; AstroSec LLC, Annandale, VA; AVATAR Computing, Inc., Worcester, MA; Azure Summit Technology, Inc., Fairfax, VA; Caesar Creek Software, Miamisburg, OH; Commdex, Inc., Smyrna, GA; Corellium, Inc., Delray Beach, FL; Cromulence LLC, Melbourne, FL; Cryptic Vector, Liberty Township, OH; Dobbs Defense Solutions, College Park, MD; Grace Innovations LLC, Arlington, VA; IQM Research Institute, Ann Arbor, MI; JEM Engineering LLC, Laurel, MD; KRI at Northeastern University LLC, Burlington, MA; L3Harris Technologies, Inc., Harris Defense Communications, Rochester, NY; McKinsey & Company, Inc. Washington DC, Washington, DC ; Near Earth Autonomy, Inc., Pittsburgh, PA; Obsidian Solutions Group LLC, Fredericksburg, VA; Outside Analytics, Inc., Broomfield, CO; Pacific Defense Strategies, Inc., El Segundo, CA; Permuta Technologies, Inc., Vienna, VA; Physical Sciences, Inc., Andover, MA; QUASAR Federal Systems, Inc., San Diego, CA; Roke USA, Inc., Sterling, VA; Sparton De Leon Springs LLC, De Leon Springs, FL; Steerbridge Strategies LLC, Vienna, VA; Titan Systems LLC, Lexington Park, MD; and True North Logistics LLC, Downers Grove, IL have been added as parties to this venture.

Also, Anthem Engineering LLC., Elkridge, MD; Boonton Electronics, Parsippany, NJ; Dignitas Technologies, Orlando, FL; Intrinsix Corp., Marlborough, MA; KYRUS Tech, Inc., Sterling, VA; Merlin International, Inc., Tysons, VA; Metamorphosis Group, Inc., Vienna, VA; P&J Robinson Corp, Boerne, TX; Sage Analysis Group, Inc., Boston, MA; Silver Palm Technologies LLC, Ijamsville, MD; Spectranetix, Inc., Sunnyvale, CA; Submergence Group LLC, Cedar Park, TX; TeleCommunication Systems, Inc., Annapolis, MD; and Trusted Science & Technology, Inc., Bethesda, MD have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23. 2018 (83 FR 53499).

The last notification was filed with the Department on April 12, 2023. A notice was published in the Federal Register pursuant to section 6(b) of the Act on June 13, 2023 (88 FR 38535).

Suzanne Morris,
Deputy Director Civil Enforcement Operations, Antitrust Division.

[FR Doc. 2023-20771 Filed 9-25-23; 8:45 am]

BILLING CODE P